DEPARTMENT OF AGRICULTURE

Agricultural Marketing Service

[TM-00-06]

Notice of Meeting of the National Organic Standards Board

AGENCY: Agricultural Marketing Service, USDA.

ACTION: Notice.

SUMMARY: In accordance with the Federal Advisory Committee Act, as amended, the Agricultural Marketing Service (AMS) announces a forthcoming meeting of the National Organic Standards Board (NOSB).

DATES: June 6, 2000, from 9 a.m. to 5 p.m., and June 7, 2000, 9 a.m. to 5 p.m. (Eastern Daylight Time each day).

Place: Hilton Crystal City at National Airport, 2399 Jefferson Davis Highway, Arlington, VA 22202, Telephone: (703) 418-6800.

FOR FURTHER INFORMATION CONTACT: Keith Jones, Program Manager, National Organic Program, USDA-AMS-TMP-NOP, Room 2945-So., Ag Stop 0268, P.O. Box 96456, Washington, D.C. 20090-6456, Telephone: (202) 720-3252.

SUPPLEMENTARY INFORMATION: Section 2119 (7 U.S.C. 6518) of the Organic Foods Production Act of 1990 (OFPA), as amended (7 U.S.C. Section 6501 et seq.) requires the establishment of the NOSB. The purpose of the NOSB is to assist in the development of standards for substances to be used in organic production and to advise the Secretary on any other aspects of the implementation of OFPA. The NOSB met for the first time in Washington, D.C., in March 1992 and currently has six committees working on various aspects of the program. The committees are: Crops Standards; Processing, Labeling and Packaging Standards; Livestock Standards; Accreditation; Materials; and International Issues.

In August of 1994, the NOSB provided its initial recommendations for the National Organic Program (NOP) to the Secretary of Agriculture. Since that time the NOSB has submitted 30 addenda to its recommendations and reviewed more than 170 substances for inclusion on the National List of Allowed and Prohibited Substances. The last meeting of the NOSB was held on March 21-22, 2000, in Buena Park, California.

The Department of Agriculture (USDA) published its re-proposed National Organic Program regulation in the Federal Register on March 13, 2000 (65 FR 13512). Comments are being accepted until June 12, 2000. Comments may be submitted to: Keith Jones, Program Manager, National Organic Program, USDA-AMS-TMP-NOP, Room 2945-So., Ag Stop 0275, PO Box 96456, Washington, DC 20090-6456. Comments also may be sent by fax to (703) 365-0760 or filed via the Internet through the NOP's homepage at: http://www.ams.usda.gov/nop. Comments should be identified with docket number TMD-00-02-PR.

Purpose and Agenda

The principal purposes of this meeting are to provide an opportunity for the NOSB to receive committee reports; approve the NOSB's comment to the re-proposed National Organic Program regulation; vote on whether to recommend the addition of ethylene gas and amino acids to the National List; elect new officers of the NOSB; and receive an update regarding certification of aquatic animals from the USDA. Copies of the NOSB final meeting agenda can be requested from Mrs. Toni Strother, USDA-AMS-TMP-NOP, Room 2510-So., Ag Stop 0268, P.O. Box 96456, Washington, D.C. 20090-6456; by phone at (202) 720-3252; or by accessing the NOP website at http://www.ams.usda.gov/nop after May 23, 2000.

Type of Meeting

This meeting is open to the public. The NOSB has scheduled time for public input on Tuesday, June 6, 2000, from 1:30 p.m. until 4:00 p.m. at the Hilton Crystal City at National Airport, 2399 Jefferson Davis Highway, Arlington, VA 22202. Telephone: (703) 418-6800. Individuals and organizations wishing to make an oral presentation at the meeting should forward the request to Mrs. Strother at the above address or by FAX to (202) 205-7808 by close of business June 2, 2000. While persons wishing to make a presentation may sign up at the door, advance registration will ensure an opportunity to speak during the allotted time period and will help the NOSB to better manage the meeting and accomplish its agenda. Individuals or organizations will be given approximately 5 minutes to present their views. All persons making an oral presentation are requested to provide their comments in writing, if possible. Written submissions may supplement the oral presentation with additional material. Written comments may be submitted to the NOSB at the meeting or to Mrs. Strother after the meeting at the above address.

Dated: May 23, 2000.
Sharon Bomer Lauritsen
Acting Deputy Administrator, Transportation and Marketing

[FR Doc. 00-13289 Filed 5-23-00; 1:35 pm]

BILLING CODE 3410-02-P